FEDERAL COMMUNICATIONS COMMISSION

Open Commission Meeting, Thursday, March 22, 2018

March 15, 2018.

The Federal Communications Commission will hold an Open Meeting on the subjects listed below on Thursday, March 22, 2018 which is scheduled to commence at 9:30 a.m. in Room TW-C305, at 445 12th Street SW, Washington, DC.

Item No. | Bureau | Subject
1 | WIRELESS TELECOMMUNICATIONS | Title: Accelerating Wireless Broadband Deployment by Removing Barriers to Infrastructure Investment (WT Docket No. 17-79).
|  | Summary: The Commission will consider a Second Report and Order that would clarify and modify the procedures for NHPA and NEPA review of wireless infrastructure deployments.
2 | CONSUMER & GOVERNMENTAL AFFAIRS | Title: Advanced Methods to Target and Eliminate Unlawful Robocalls (CG Docket No. 17-59).
|  | Summary: The Commission will consider a Second Further Notice of Proposed Rulemaking to address the problem of unwanted calls to reassigned numbers.
3 | PUBLIC SAFETY & HOMELAND SECURITY | Title: Location-Based Routing For Wireless 911 Calls (PS Docket No. 18-64).
|  | Summary: The Commission will consider a Notice of Inquiry examining location-based routing of wireless 911 calls to ensure that calls are routed to the proper 911 call center.
4 | PUBLIC SAFETY & HOMELAND SECURITY | Title: Amendment of Part 90 of the Commission's Rules (WP Docket No. 07-100).
|  | Summary: The Commission will consider a Sixth Further Notice of Proposed Rulemaking to stimulate use of and investment in the 4.9 GHz band.
5 | MEDIA | Title: Streamlined Reauthorization Procedures for Assigned or Transferred Television Satellite Stations (MB Docket No. 18-63); Modernization of Media Regulation Initiative (MB Docket No. 17-105).
|  | Summary: The Commission will consider a Notice of Proposed Rulemaking that proposes to streamline the reauthorization process for television satellite stations that are assigned or transferred in combination with a previously approved parent station.
6 | WIRELESS TELECOMMUNICATIONS | Title: Amendments of Parts 1, 2, 22, 24, 27, 90 95 of the Commission's Rules to Improve Wireless Coverage Through the Use of Signal Boosters (WT Docket No. 10-4).
|  | Summary: The Commission will consider a Second Report and Order that would remove the personal use restriction for Provider-Specific Consumer Signal Boosters and a Second Further Notice of Proposed Rulemaking that seeks comment on ways to further expand access to Consumer Signal Boosters.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

For a fee this meeting can be viewed live over George Mason University's Capitol Connection. The Capitol Connection also will carry the meeting live via the internet. To purchase these services, call (703) 993-3100 or go to www.capitolconnection.gmu.edu.

Federal Communications Commission.
Marlene H. Dortch,
Secretary.

[FR Doc. 2018-05742 Filed 3-20-18; 8:45 am]

BILLING CODE 6712-01-P